NUCLEAR REGULATORY COMMISSION

Review and Status of Surface and Volumetric Survey Design and Analysis Using Spatial Analysis and Decision Assistance (SADA) Methods; Public Workshop

AGENCY: Nuclear Regulatory Commission.

ACTION: Notice of workshop.

SUMMARY: The NRC will hold a public workshop in Rockville, Maryland, to provide the NRC staff and the public with an overview of progress on the development of a new computational tool for use in the evaluation of sites with subsurface contamination. Spatial Analysis and Decision Assistance (SADA) is a freeware software program that is being supported jointly by several Federal Agencies. SADA utilizes automated surveying designs and analytical tools to enhance the demonstration of compliance with criteria for volumetric contaminants and to test and evaluate alternative survey designs. Distributions and total contaminant inventories are sometimes required to assist in determining risk and/or compliance.

Presenters at the workshop will provide information on federally-sponsored survey design and analytical approaches under development for volumetric assessments. The emphasis of the workshop will focus on the Multi-Agency Radiation Survey & Site Investigation Manual (MARSSIM) evolution into Geostatistical and Bayesian approaches to surficial and, in particular, volumetric contamination characterization and analysis. This information will be useful to the NRC in developing realistic guidance for implementations requiring sub-surface or volumetric knowledge. All interested licensees and members of the public are invited to attend this workshop.

DATES: The workshop will be held on May 4th and 5th, 2004 from 8 a.m. to about 5 p.m. Registration is requested at http://www.tiem.utk.edu/-sada/ to help plan for security issues and determine how many CD copies of the Beta SADA software will have to be prepared for distribution.

ADDRESSES: The public workshop will be held in the NRC auditorium at Two White Flint North, 11545 Rockville Pike, Rockville, Maryland.

FOR FURTHER INFORMATION CONTACT: Designated Federal Official: Cheryl A. Trottier (301) 415-6232. General Information: George E. Powers, Office of Nuclear Regulatory Research, U.S. Nuclear Regulatory Commission, Washington, DC 20555, telephone (301) 415-6212, fax (301) 415-5385, e-mail: GEP@NRC.GOV. The workshop program can be viewed at http://www.tiem.utk.edu/-sada/.

SUPPLEMENTARY INFORMATION: This workshop is one of a series of interactions with the Agreement States, licensees, and the public to inform and gather suggestions and ideas for improving performance based protocols for conducting surveys that must consider volumetric geometries. Techniques that apply Bayesian and geostatistical methods are showing promise in reducing the resources required to evaluate volumetric contamination while increasing the accuracy and precision of the results. Therefore, the NRC staff is considering expanding and extending the performance guidance for conducting volumetric surveys by applying statistics such as Bayesian and geostatistical analysis that may be more appropriate for use in assessments. The workshop will include brief formal presentations by invited speakers from DOE national laboratories, EPA and other Federal Agencies. These presentations will address survey techniques that can be applied up to the initiation of volumetric sampling and analysis. Question and answer periods will be provided.

Visitor parking around the NRC building is limited; however, the workshop site is located adjacent to the White Flint Station on the Metro Red Line. Seating for the public will be on a first-come, first-served basis.

Dated at Rockville, Maryland this 12th day of April, 2004.
For the Nuclear Regulatory Commission.
Cheryl A. Trottier,
Chief, Radiation Protection and Health Effects Branch, Division of Regulatory Applications, Office of Nuclear Regulatory Research.

[FR Doc. 04-8634 Filed 4-15-04; 8:45 am]

BILLING CODE 7590-01-P